DEPARTMENT OF THE INTERIOR

Fish and Wildlife Service

[FWS-R2-ES-2015-N034; FXES11130100000C4-156-FF01E00000]

Endangered and Threatened Wildlife and Plants; 5-Year Status Reviews of Black-Lace Cactus, Bone Cave Harvestman, Pima Pineapple Cactus, Texas Snowbells, and Walker's Manioc in the Southwest Region

AGENCY: Fish and Wildlife Service, Interior.

ACTION: Notice of initiation of reviews; request for information.

SUMMARY: We, the U.S. Fish and Wildlife Service, are initiating 5-year status reviews under the Endangered Species Act of 1973, as amended (Act), of the endangered black-lace cactus (Echinocereus reichenbachii var. albertii), the endangered Bone Cave harvestman (Texella reyesi), the endangered Pima pineapple cactus (Coryphantha scheeri var. robustispina), the endangered Texas snowbells (Styrax texanus), and the endangered Walker's manioc (Manihot walkerae). A 5-year review is based on the best scientific and commercial data available at the time of the review; therefore, we are requesting submission of any such information that has become available since our original listing of these five species or since the last 5-year review.

DATES: To ensure consideration, we are requesting submission of new information no later than June 15, 2015. However, we will continue to accept new information about any listed species at any time.

ADDRESSES: For how to submit information, see Request for Information and How Do I Ask Questions or Provide Information? in the SUPPLEMENTARY INFORMATION section.

FOR FURTHER INFORMATION CONTACT: For information on a particular species, contact the appropriate person or office listed in the table in the SUPPLEMENTARY INFORMATION section.

SUPPLEMENTARY INFORMATION:

Why do we conduct a 5-year review?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Our regulations at 50 CFR 424.21 require that we publish a notice in the Federal Register announcing those species under active review. For additional information about 5-year reviews, refer to our factsheet at http://www.fws.gov/endangered/what-we-do/recovery-overview.html.

What information do we consider in our review?

A 5-year review considers all new information available at the time of the review. For all five of these species, this will be the second 5-year review developed for each species. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

Which species are under review?

This notice announces our active review of the species listed in the table below.

Common name | Scientific name | Listing status | Where listed | Final listing rule (Federal Register citation and publication date) | Contact person, phone, email | Contact person's U.S. mail address
Cactus, black-lace | Echinocereus reichenbachii var. albertii | Endangered | U.S.A. (TX) | 41 FR 24524; June 16, 1976 | Field Supervisor, 281-286-8282 (phone); David_Hoth@fws.gov (email) | U.S. Fish and Wildlife Service, Coastal Ecological Services Field Office, 17629 El Camino Real, Suite 211, Houston, TX 77058.
Cactus, Pima pineapple | Coryphantha scheeri var. robustispina | Endangered | U.S.A (AZ) | 58 FR 49875; September 23, 1993 | Field Supervisor, 602-242-0210 (phone); Steve_Spangle@fws.gov (email) | U.S. Fish and Wildlife Service, Arizona Ecological Services Field Office, Attention 5-Year Review, 2321 West Royal Palm Road, Suite 103, Phoenix, AZ 85021.
Harvestman, Bone Cave | Texella reyesi | Endangered | U.S.A. (TX) | 53 FR 36029; September 16, 1988 | Field Supervisor, 512-490-0057 (phone); Adam_Zerrener@fws.gov (email) | U.S. Fish and Wildlife Service, Austin Ecological Services Field Office, Attention 5-Year Review, 10711 Burnet Road, Suite 200, Compass Bank Building, Austin, TX 78758.
Manioc, Walker's | Manihot walkerae | Endangered | U.S.A. (AZ) | 56 FR 49850; October 2, 1991 | Field Supervisor, 281-286-8282 (phone); David_Hoth@fws.gov (email) | U.S. Fish and Wildlife Service, Coastal Ecological Services Field Office, 17629 El Camino Real, Suite 211, Houston, TX 77058.
Snowbells, Texas | Styrax texanus | Endangered | U.S.A. (TX) | 49 FR 40036; October 12, 1984 | Field Supervisor, 512-490-0057 (phone); Adam_Zerrener@fws.gov (email) | U.S. Fish and Wildlife Service, Austin Ecological Services Field Office, Attention 5-Year Review, 10711 Burnet Road, Suite 200, Compass Bank Building, Austin, TX 78758.

Request for Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts. Individuals who are hearing impaired or speech impaired may call the Federal Relay Service at 800-877-8339 for TTY assistance.

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed and Active Reviews

A list of all completed and currently active 5-year reviews addressing species for which the Southwest Region of the Service has lead responsibility is available at http://www.fws.gov/southwest/es/ElectronicLibrary_Main.cfm (under “Select a Document Category,” select “5-Year Review”).

Authority

This document is published under the authority of the Endangered Species Act of 1973, as amended (16 U.S.C. 1531 et seq.).

Dated: March 19, 2015.
Joy E. Nicholopoulos,
Regional Director, Southwest Region, U.S. Fish and Wildlife Service.

[FR Doc. 2015-08624 Filed 4-14-15; 8:45 am]

BILLING CODE 4310-55-P